DEPARTMENT OF TRANSPORTATION

Federal Aviation Administration

Agency Information Collection Activities: Requests for Comments; Clearance of Renewed Approval of Information Collection: Certification of Repair Stations

AGENCY: Federal Aviation Administration (FAA), DOT.

ACTION: Notice and request for comments.

SUMMARY: In accordance with the Paperwork Reduction Act of 1995, FAA invites public comments about our intention to request the Office of Management and Budget (OMB) approval to renew an information collection. Information is collected from applicants who wish to obtain repair station certification. Applicants must submit FAA form 8310-3 to the appropriate FAA flight standards district office for review.

DATES: Written comments should be submitted by January 23, 2012.

FOR FURTHER INFORMATION CONTACT: Kathy DePaepe at (405) 954-9362, or by email at: Kathy.A.DePaepe@faa.gov.

SUPPLEMENTARY INFORMATION: OMB Control Number: 2120-0682.

Title: Certification of Repair Stations.

Form Numbers: FAA Form 8310-3.

Type of Review: Renewal of an information collection.

Background: Part 145 of Title 14, Code of Federal Regulations (14 CFR) prescribes the requirements for the issuance of repair station certificates and associated ratings to maintenance and alteration organizations. The information requested is required from applicants who wish repair station certification. Applicants must submit the required data to the appropriate FAA district office for review and acceptance/approval. If the information is satisfactory, an onsite inspection is conducted. When all the FAR Part 145 requirements have been met an air agency certificate and repair station operations specifications with appropriate ratings and limitations are issued.

Respondents: Approximately 4,625 maintenance and alteration organizations.

Frequency: Information is collected on occasion.

Estimated Average Burden per Response: 9.5 hours.

Estimated Total Annual Burden: 185,000 hours.

ADDRESSES: Send comments to the FAA at the following address: Ms. Kathy DePaepe, Room 126B, Federal Aviation Administration, AES-200, 6500 S. MacArthur Blvd., Oklahoma City, OK 73169.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on November 14, 2011.
Albert R. Spence,
FAA Assistant Information Collection Clearance Officer, IT Enterprises Business Services Division, AES-200.

[FR Doc. 2011-30089 Filed 11-21-11; 8:45 am]

BILLING CODE 4910-13-P